SMALL BUSINESS ADMINISTRATION

[Declaration of Disaster #3620]

State of Florida (Amendment #6)

In accordance with a notice received from the Department of Homeland Security—Federal Emergency Management Agency—effective October 8, 2004, the above numbered declaration is hereby amended to establish the incident period for this disaster as beginning September 3, 2004, and continuing through October 8, 2004.

All other information remains the same, i.e., the deadline for filing applications for physical damage is December 11, 2004 and for economic injury the deadline is June 6, 2005.

(Catalog of Federal Domestic Assistance Program Nos. 59002 and 59008)

Dated: October 14, 2004.
Cheri L. Cannon,
Acting Associate Administrator for Disaster Assistance.

[FR Doc. 04-23640 Filed 10-21-04; 8:45 am]

BILLING CODE 8025-01-P